DEPARTMENT OF AGRICULTURE

Submission for OMB Review; Comment Request

The Department of Agriculture has submitted the following information collection requirement(s) to OMB for review and clearance under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques and other forms of information technology.

Comments regarding this information collection received by February 17, 2026 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Forest Service

Title: Community Forest and Open Space Conservation Program.

OMB Control Number: 0596-0227.

Summary of Collection: The Forest Service is authorized to implement the Community Forest and Open Space Program (CFP) under Section 8003 of the Food, Conservation, and Energy Act of 2008 (Pub. L. 110-246; 122 Stat. 2043), which amends the Cooperative Forestry Assistance Act of 1978 (16 U.S.C. 2103d). On October 20, 2011, the Forest Service issued regulations (36 CFR part 230, subpart A) to govern the rules and procedure for the Community Forest Program. The final rule was revised on April 2, 2021.

Need and Use of the Information: The information requirements will be used to help the Forest Service in the following areas: (1) To determine that the applicant is eligible to receive funds under the program, (2) to determine if the proposal meets the qualifications in the law and regulations, (3) to evaluate and rank the proposals based on standard, consistent information; and (4) to determine if the projects costs are allowable and sufficient cost share is provided. Local governmental entities, Tribal Governments, and qualified nonprofit organizations are the only entities eligible for the program and therefore are the only organizations from which information will be collected.

Description of Respondents: Non-profit Organizations; State, Local and Tribal Governments.

Number of Respondents: 60.

Frequency of Responses: Annually; Quarterly; Reporting and Record Keeping.

Total Burden Hours: 3,810.

Forest Service

Title: The Stewardship Mapping and Assessment Project (STEW-MAP).

OMB Control Number: 0596-0240.

Summary of Collection: The Forest Service's mandate includes providing science-based information to land managers and decision-makers in regions across the country to support their management of natural resources and to provide the most possible benefits to local populations. The knowledge developed from stewardship mapping can support the development of strategic partnerships in support of land management, wildfire adaptation, responsible recreation, and rural economies. This Information Collection will help the Forest Service better support expanding partnerships and volunteerism so that we can fulfill our role of guiding stewardship of forests and associated natural resources across the landscape in collaboration with a broad suite of partners. Since the last approval, STEW-MAP has successfully been applied on and around multiple national forests, helping to inform public outreach and engagement strategies, partnership and network development, and coordination at the landscape scale—particularly on the complex issue of wildfire adaptation and management.

Need and Use of the Information: The information will initially be collected once in each location. Ideally, data collection will then be repeated every 5-10 years so that stewardship groups can update their information and additional groups can have an opportunity to participate. For research purposes, collecting the information every 5-10 years allows analysis of how stewardship organizations and stewardship patterns change over time. STEW-MAP locations may elect to conduct yearly updates or hold open seasons where surveys are collected more often than every 5-10 years, to give initial nonrespondents an opportunity to reply. We estimate that these yearly/open season updates would add no more than 10% of the total number of responses at a given time.

Description of Respondents: Business or other for-profit; Not-for-profit institutions; State, Local or Tribal Governments.

Number of Respondents: 13,600.

Frequency of Responses: Reporting: Annually.

Total Burden Hours: 3,892.

Forest Service

Title: Post-Hurricane Research and Assessment of Agriculture, Forestry, and Rural Communities in the U.S. Caribbean.

OMB Control Number: 0596-0246.

Summary of Collection: Agriculture and forestry systems in the U.S. Caribbean provide a vast range of goods and services but experience recurrent disturbances like hurricanes and tropical storms that can disrupt productivity and pose challenges to effective management. Recent hurricanes affecting Puerto Rico and the U.S. Virgin Islands, including Irma and Maria (2017), Fiona (2022), and Ernesto (2024), underscore the frequency with which these types of disturbances can occur and their singular and compounding effects across multiple sectors and scales. For instance, in 2022, over 90 percent of Puerto Rico's commercial crops were lost to the effects and associated impacts of hurricane Fiona, just five years after damages from hurricanes Irma and Maria were reported to have destroyed 80 percent of the island's commercial crops (Rodríguez Serrano et al., 2024). Farms, forests, and the surrounding rural communities, which together comprise a large portion of the landscape in the U.S. Caribbean, have been particularly hard hit by hurricanes and other extreme weather events in recent years, resulting in widespread losses and damages that compromise commodity production, food security, and the provision and protection of ecosystem services (Álvarez et al., 2021, McGinley et al., 2022, Rodríguez Serrano et al., 2024). However, there remains limited information and understanding of hurricane preparedness, response, and recovery in these sectors and systems and the internal and external factors that help to explain related risks and response capacity. Therefore, this Information Collection Request seeks approval to continue to collect information on and extend knowledge of hurricane readiness, response, and recovery in agriculture, forestry, and rural communities in the U.S. Caribbean.

Need and Use of the Information: Information will be collected from a purposively selected, non-probability sample of individuals who own, lease, or otherwise actively manage agricultural and forest land in Puerto Rico and the U.S. Virgin Islands through a researcher-administered questionnaire. A non-probability, purposive sample is necessary for this research because a complete and accessible sampling frame of the populations of interest is not available. Available data on the agriculture and forest sectors in Puerto Rico and the U.S. Virgin Islands will be used by researchers to identify major production sectors (such as coffee, bananas/plantains, row crops, poultry, livestock, etc.), range in and average total landholding area held by farm and forest owners (for example, from Agriculture Census, Forest Inventory and Analysis), and other key criteria for selecting respondents. Researchers will use farm and forest owner and operator databases maintained by USDA agencies, Puerto Rico Department of Agriculture and Department of Natural and Environmental Resources, and U.S. Virgin Islands Department of Agriculture, seeking representation across subregional geographies, production sectors, landholding size, and other key factors. Although data from a non-probability sample cannot be used to make statistical inferences or generalizations about the populations of interest, planned variation among participants is designed to capture a broad range of characteristics and perspectives approximating these populations.

Description of Respondents: Non-profit Organizations and Non-Federal Government entities.

Number of Respondents: 250.

Frequency of Responses: Reporting; Quarterly.

Total Burden Hours: 146.

Levi S. Harrell,
Departmental Information Collection Clearance Officer.

[FR Doc. 2026-00758 Filed 1-14-26; 8:45 am]

BILLING CODE 3410-15-P